DEPARTMENT OF STATE

[Public Notice 10754]

U.S. Department of State Advisory Committee on Private International Law: Notice of Full Committee Meeting

The Department of State's Advisory Committee on Private International Law (ACPIL) will hold annual full committee meeting on Thursday, May 23, 2019 in Washington, DC. The meeting will be held at the U.S. Department of State, Annex SA-17 Building at 600 19th St. NW, Room B1-302, Washington, DC 20006. The program is scheduled to run from 8:30 a.m. to 4 p.m.

Meeting participants will be provided an opportunity to provide views on current work, such as investor-state dispute settlement reform work at the United Nations Commission on International Trade Law as well as the finalization of the Convention on the recognition and enforcement of foreign judgments in civil or commercial matters at the Hague Conference on Private International Law. In addition, participants will have an opportunity to express views as to possible future work in the area of private international law. A more detailed agenda will be emailed in advance of the meeting to persons who notify the Department of their intent to participate in the meeting pursuant to the process identified below.

Persons planning to attend the meeting should contact pil@state.gov as soon as possible. The meeting is open to the public up to the capacity of the conference facility, and seating will be reserved based upon when persons contact pil@state.gov. Those planning to attend should provide their name, date of birth, citizenship and either a driver's license or passport number to pil@state.gov. A member of the public needing reasonable accommodation should notify pil@state.gov not later than May 16, 2019. Requests made after that date will be considered, but might not be able to be fulfilled. Persons who wish to have their views considered are encouraged, but not required, to submit written comments in advance. Those who are unable to attend are also encouraged to submit written views. Comments should be sent electronically to pil@state.gov.

This information is being collected pursuant to 22 U.S.C. 2651a and 22 U.S.C. 4802 for the purpose of screening and pre-clearing participants to enter the host venue at the U.S. Department of State, in line with standard security procedures for events of this size. The Department of State will use this information consistent with the routine uses set forth in the System of Records Notice for Security Records (State-36). Provision of this information is voluntary, but failure to provide accurate information may impede your ability to register for the event. Please see the Security Records System of Records Notice (State-36) at https://www.state.gov/documents/organization/242611.pdf for additional information.

Sharla Draemel,
Attorney-Adviser, Office of Private International Law, Office of the Legal Adviser, Department of State.

[FR Doc. 2019-08802 Filed 4-30-19; 8:45 am]

BILLING CODE 4710-08-P